SECURITIES AND EXCHANGE COMMISSION

[SEC File No. 270-669, OMB Control No. 3235-0749]

Proposed Collection; Comment Request; Extension: Rule 18a-7

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 18a-7 (17 CFR 240.18a-7), under the Securities Exchange Act of 1934 (15 U.S.C. 78a et seq.). The Commission plans to submit this existing collection of information to the Office of Management and Budget (“OMB”) for extension and approval.

Rule 18a-7 establishes reporting requirements applicable to stand-alone security-based swap dealers (“SBSDs”), stand-alone major security-based swap participants (“MSBSPs”), bank SBSDs, and bank MSBSPs. Rule 18a-7 is modeled on Exchange Act Rule 17a-5, which applies to broker-dealers, but Rule 18a-7 does not include a parallel requirement for every requirement in Rule 17a-5 because some of the requirements in Rule 17a-5 relate to activities that are not expected or permitted of SBSDs and MSBSPs.

Under Rule 18a-7, stand-alone SBSDs and stand-alone MSBSPs are required to file the FOCUS Report Part II and the annual reports, while bank SBSDs and bank MSBSPs are required to file the FOCUS Report Part IIC. Stand-alone SBSDs and stand-alone MSBSPs are required to file the FOCUS Report Part II on a monthly basis, whereas bank SBSDs and bank MSBSPs are required to file FOCUS Report Part IIC on a quarterly basis. Moreover, under Rule 18a-7 stand-alone SBSDs and stand-alone MSBSPs are required to make available to customers an audited statement of financial condition with appropriate notes on their public website.

The Commission estimates that the total hour burden under Rule 18a-7 is approximately 2,796 hours per year, and the total cost burden is approximately $2,424,016 per year.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by May 28, 2024.

An agency may not conduct or sponsor, and a person is not required to respond to, a collection of information unless it displays a currently valid OMB control number.

Please direct your written comments to: David Bottom, Director/Chief Information Officer, Securities and Exchange Commission, c/o John Pezzullo, 100 F Street NE, Washington, DC 20549, or send an email to: PRA_Mailbox@sec.gov.

Dated: March 21, 2024.
Sherry R. Haywood,
Assistant Secretary.

[FR Doc. 2024-06371 Filed 3-25-24; 8:45 am]

BILLING CODE 8011-01-P